FEDERAL COMMUNICATIONS COMMISSION

[WT Docket No. 06-203; DA 06-2285]

Wireless Telecommunications Bureau Seeks Comment on Topics To Be Addressed in Hearing Aid Compatibility Report

AGENCY: Federal Communications Commission.

ACTION: Notice.

SUMMARY: This document seeks comment on the three topics to be addressed in the Hearing Aid Compatibility staff report to assist in the examination of three topics: The impact of our rules in achieving greater compatibility between hearing aids and digital wireless phones; the development of new technologies that could provide greater or more efficient accessibility of wireless telecommunications to hearing aid users; and the impact of the compatibility requirements on cochlear implant and middle ear implant users and their ability to use digital wireless phones.

DATES: Comments are due December 15, 2006 and Reply comments are due January 5, 2007.

ADDRESSES: You may submit comments, identified by WT Docket No. 06-203, by any of the following methods:

• Federal eRulemaking Portal: http://www.regulations.gov. Follow the instructions for submitting comments.

• Federal Communications Commission's Web Site: http://www.fcc.gov/cgb/ecfs/. Follow the instructions for submitting comments.

• People with Disabilities: Contact the FCC to request reasonable accommodations (accessible format documents, sign language interpreters, CART, etc.) by e-mail: FCC504@fcc.gov or phone: 202-418-0530 or TTY: 202-418-0432.

For detailed instructions for submitting comments and additional information on the rulemaking process, see the SUPPLEMENTARY INFORMATION section of this document.

FOR FURTHER INFORMATION CONTACT: Christina Clearwater or Peter Trachtenberg, Spectrum & Competition Policy Division, Wireless Telecommunications Bureau, Federal Communications Commission, (202) 418-1310.

SUPPLEMENTARY INFORMATION: On November 8, 2006, the Wireless Telecommunications Bureau released a public notice in which it seeks comments on topics to be addressed in the hearing aid compatibility report. Interested parties may file comments by December 15, 2006 and reply comments by January 5, 2007.

Background

On August 13, 2003, the Commission released the Hearing Aid Compatibility Report and Order, 68 FR 54,173, September 16, 2003 which adopted several measures to enhance the ability of persons with hearing disabilities to access digital wireless telecommunications. Among other actions, the Commission established technical standards that digital wireless handsets must meet to be considered hearing aid-compatible, including a standard for radio frequency interference that would enable acoustic coupling between hearing aids and digital wireless phones, and a separate standard for handset production of an audio signal-based magnetic field that would enable inductive coupling between digital wireless phones and hearing aids operating in telecoil mode. The Commission further established phased-in deployment benchmark dates for the offering of hearing aid-compatible digital wireless handset models.

In particular, the Commission required handset manufacturers and providers of public mobile services that did not fall within the de minimis exception to offer, for each air interface they use, at least two digital wireless handset models that meet the Commission's radio frequency interference standard by September 16, 2005, and to ensure that at least 50 percent of their handset offerings for each air interface comply with the interference standard by February 18, 2008. The Commission further required these entities to offer at least two handset models for each air interface they used that comply with the technical standard for inductive coupling by September 18, 2006. In order to monitor efforts to make compliant handsets available, the Commission required manufacturers and wireless carriers to report every six months on efforts toward compliance with the hearing aid-compatibility requirements for the first three years of implementation (on May 17, 2004, November 17, 2004, May 17, 2005, November 17, 2005, May 17, 2006, and November 17, 2006), and then annually thereafter through the fifth year of implementation (on November 19, 2007, and November 17, 2008).

In addition to establishing these requirements, the Commission provided that, “[s]hortly after three years after the effective date of this Order, FCC staff will deliver to the Commission a report” that examines three topics: (1) “the impact of our rules in achieving greater compatibility between hearing aids and digital wireless phones;” (2) “the development of new technologies that could provide greater or more efficient accessibility of wireless telecommunications to hearing aid users;” and (3) “the impact of this Order's compatibility requirements on cochlear implant and middle ear implant users and their ability to use digital wireless phones.” The Commission stated that the report would “form the basis for the Commission to initiate a proceeding to evaluate: (1) Whether to increase [or] decrease the 2008 requirement to provide 50 percent of phone models that comply with a U3 rating; (2) whether to adopt HAC implementation benchmarks beyond 2008; and (3) whether to otherwise modify the HAC requirements.”

The Wireless Telecommunications Bureau (Bureau) now invites the public to comment on the three topics to be addressed in the staff report. As the Bureau will examine the filed compliance reports as part of its review of these issues, parties that have filed such reports need not re-file the same information in response to this Public Notice. Interested parties may file comments no later than December 15, 2006. Reply comments are due no later than January 5, 2007. All filings should refer to WT Docket No. 06-203.

Comments may be filed using the Commission's Electronic Comment Filing System (ECFS) or by filing paper copies. See Electronic Filing of Documents in Rulemaking Proceedings, 63 FR 24121, May 1, 1998. Comments filed through the ECFS can be sent as an electronic file via the Internet to http://www.fcc.gov/cgb/ecfs/. Generally, only one copy of an electronic submission must be filed. If multiple docket or rulemaking numbers appear in the caption of this proceeding, however, commenters must transmit one electronic copy of the comments to each docket or rulemaking number referenced in the caption. In completing the transmittal screen, commenters should include their full name, U.S. Postal Service mailing address, and the applicable docket or rulemaking number. Parties may also submit an electronic comment by Internet e-mail. To get filing instructions for e-mail comments, commenters should send an e-mail to ecfs@fcc.gov, and should include the following words in the body of the message, “get form.” A sample form and directions will be sent in reply. Parties who choose to file by paper must file an original and four copies of each filing. If more than one docket or rulemaking number appears in the caption of this proceeding, commenters must submit two additional copies for each additional docket or rulemaking number.

Filings can be sent by hand or messenger delivery, by commercial overnight courier, or by first-class or overnight U.S. Postal Service mail (although we continue to experience delays in receiving U.S. Postal Service mail). The Commission's contractor will receive hand-delivered or messenger-delivered paper filings for the Commission's Secretary at 236 Massachusetts Avenue, NE., Suite 110, Washington, DC 20002.

—The filing hours at this location are 8 a.m. to 7 p.m.

—All hand deliveries must be held together with rubber bands or fasteners.

—Any envelopes must be disposed of before entering the building.

—Commercial overnight mail (other than U.S. Postal Service Express Mail and Priority Mail) must be sent to 9300 East Hampton Drive, Capitol Heights, MD 20743.

—U.S. Postal Service first-class mail, Express Mail, and Priority Mail should be addressed to 445 12th Street, SW., Washington, DC 20554.

—All filings must be addressed to the Commission's Secretary, Office of the Secretary, Federal Communications Commission.

Three (3) copies of the comments and reply comments should also be sent to the Spectrum & Competition Policy Division, Wireless Telecommunications Bureau, 445 12th Street, SW., Washington, DC 20554, Attn: Christina Clearwater and Peter Trachtenberg. Parties shall also send one copy to Best Copy and Printing, Inc., Portals II, 445 12th Street, SW., Room CY-B402, Washington, DC 20554, (800) 378-3160, or via e-mail to Joshir@erols.com.

Comments filed in response to the public notice are available for public inspection and copying during business hours in the FCC Reference Information Center, Portals II, 445 12th Street SW., Room CY-A257, Washington, DC 20554. The comments may also be purchased from Best Copy and Printing, Inc., telephone (800) 378-3160, facsimile (301) 816-0169.

Federal Communications Commission.
James D. Schlichting,
Deputy Chief, Wireless Telecommunications Bureau.

[FR Doc. E6-19254 Filed 11-14-06; 8:45 am]

BILLING CODE 6712-01-P